DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on June 13, 2001 (66 FR 31974).

DATES: Comments must be submitted on or before December 3, 2001.

FOR FURTHER INFORMATION CONTACT: Walter Culbreath, National Highway Traffic Safety Administration, Office of Administration (NAD-40), 202-366-1566. 400 Seventh Street, SW, Room 6240, Washington, DC 20590.

SUPPLEMENTARY INFORMATION:

National Highway Traffic Safety Administration

Title: 49 CFR Part 580 Odometer Disclosure Statement.

OMB Number: 2127-0047.

Type of Request: Extension of a currently approved collection.

Abstract: The Federal Odometer Law, 49 U.S.C. chapter 327, and implementing regulations, 49 CFR part 580 require each transferor of a motor vehicle to provide the transferee with a written disclosure of the vehicle's mileage. This disclosure is to be made on the vehicle's title, or in the case of a vehicle that has never been titled, on a separate form. If the title is lost or is held by a lien holder, and where permitted by state law, the disclosure can be made on a stat-issued, secure power of attorney.

Affected Public: Households, Business, other for-profit, and not-for-profit institutions, Federal Government, and State, Local, or Tribal Government.

Estimated Total Annual Burden: 2,586,160.

ADDRESSES: Send comments, within 30 days, to the Office of Information and Regulatory Affairs, Office of Management and Budget, 725-17th Street, NW, Washington, DC 20503, Attention NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology.

A Comment to OMB is most effective if OMB receives it within 30 days of publication.

Issued in Washington, DC, on October 29, 2001.
Herman L. Simms,
Associate Administrator for Administration.

[FR Doc. 01-27473 Filed 10-31-01; 8:45 am]

BILLING CODE 4910-59-P